DEPARTMENT OF ENERGY

Orders Granting Authority to Import and Export Natural Gas, To Import Liquefied Natural Gas, To Export Liquefied Natural Gas, and Vacating Prior Authority During February 2013

| FE Docket Nos.
J.P. MORGAN COMMODITIES CANADA CORPORATION | 12-151-LNG
SEMPRA LNG MARKETING, LLC | 12-155-LNG
DTE GAS COMPANY | 12-175-NG
MAGNOLIA LNG, LLC | 12-183-LNG
TC RAVENSWOOD, LLC | 12-185-NG
TOTAL GAS & POWER NORTH AMERICA, INC. | 13-01-NG
RESOLUTE FP US INC. | 13-05-NG
GAS NATURAL APROVISIONAMIENTOS SDG, S.A. | 13-07-LNG
SOCIETE GENERALE ENERGY INC. | 13-08-NG
SOCIETE GENERALE ENERGY CORP. | 13-09-NG
FREEPOINT COMMODITIES LLC | 13-10-NG
PLANET ENERGY CORP. | 13-13-NG
STATOIL NATURAL GAS LLC | 13-14-LNG
PACIFICORP | 13-16-NG
CARGILL, INCORPORATED | 13-17-NG
EXCELERATE ENERGY GAS MARKETING, LIMITED PARTNERSHIP | 13-19-LNG
ROYAL BANK OF CANADA | 13-21-NG
AECO GAS STORAGE PARTNERSHIP | 13-22-NG
OMIMEX CANADA, LTD. | 13-23-NG

AGENCY: Office of Fossil Energy, Department of Energy (DOE).

ACTION: Notice of orders.

SUMMARY: The Office of Fossil Energy (FE) of the Department of Energy gives notice that during February 2013, it issued orders granting authority to import and export natural gas and liquefied natural gas and vacating prior authority. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on March 25, 2013.
John A. Anderson,
Manager, Natural Gas Regulatory Activities, Office of Oil and Gas Global Security and Supply, Office of Fossil Energy.

Appendix—DOE/FE Orders Granting Import/Export Authorizations

Order No. | Date issued | FE Docket No. | Authorization holder | Description of action
3228 | 02/12/13 | 12-175-NG | DTE Gas Company | Order granting blanket authority to import/export natural gas from/to Canada and vacating prior Orders 3062 and 2902.
3229 | 02/12/13 | 13-05-NG | Resolute FP US Inc. | Order granting blanket authority to import/export natural gas from/to Canada.
3230 | 02/12/13 | 13-10-NG | Freepoint Commodities LLC | Order granting blanket authority to import/export natural gas from/to Canada/Mexico, to import LNG from Canada/Mexico by truck, to export LNG to Canada/Mexico by vessel and truck, and to import LNG from various international sources by vessel.
3231 | 02/13/13 | 12-155-LNG | Sempra LNG Marketing, LLC | Order granting blanket authority to export previously imported LNG by vessel.
3232 | 02/19/13 | 12-185-NG | TC Ravenswood, LLC | Order granting blanket authority to import/export natural gas from/to Canada.
3233 | 02/19/13 | 13-07-LNG | Gas Natural Aprovisionamientos SDG, S.A. | Order granting blanket authority to import LNG from various international sources by vessel.
3234 | 02/19/13 | 13-13-NG | Planet Energy Corp. | Order granting blanket authority to import/export natural gas from/to Canada.
3235 | 02/19/13 | 13-16-NG | Pacificorp | Order granting blanket authority to import/export natural gas from/to Canada.
3236 | 02/19/13 | 12-113-LNG | Excelerate Energy Gas Marketing, Limited Partnership | Order granting blanket authority to import LNG from various international sources by vessel.
3237 | 02/19/13 | 13-21-NG | Royal Bank of Canada | Order granting blanket authority to import/export natural gas from/to Canada.
3238 | 02/19/13 | 13-23-NG | Omimex Canada, Ltd. | Order granting blanket authority to import natural gas from Canada.
3239 | 02/20/13 | 13-01-NG | Total Gas & Power North America, Inc. | Order granting blanket authority to import/export natural gas from/to Canada, to import LNG from various international sources by vessel.
3240 | 02/20/13 | 13-08-NG | Societe Generale Energy Inc. | Order granting blanket authority to import/export natural gas from/to Canada/Mexico, to import LNG from Canada/Mexico by truck, to export LNG to Canada/Mexico by vessel and truck, and to import LNG from various international sources by vessel.
3241 | 02/20/13 | 13-09-NG | Societe Generale Energy Corp. | Order granting blanket authority to import/export natural gas from/to Canada/Mexico, to import LNG from Canada/Mexico by truck, to export LNG to Canada/Mexico by vessel and truck, and to import LNG from various international sources by vessel.
3242 | 02/20/13 | 13-14-LNG | Statoil Natural Gas LLC | Order granting blanket authority to import LNG from various international sources by vessel.
3243 | 02/20/13 | 13-17-NG | Cargill, Incorporated | Order granting blanket authority to import/export natural gas from/to Canada/Mexico, to import LNG from Canada/Mexico by truck, to export LNG to Canada/Mexico by vessel and truck, and to import LNG from various international sources by vessel.
3244 | 02/20/13 | 13-22-NG | AECO Gas Storage Partnership | Order granting blanket authority to import/export natural gas from/to Canada.
3245 | 02/27/13 | 12-183-LNG | Magnolia LNG, LLC | Order granting long-term multi-contract authority to export LNG by vessel from the proposed Magnolia LNG Terminal in Lake Charles, Louisiana to Free Trade Agreement nations.
3246 | 02/27/13 | 12-151-LNG | J.P. Morgan Commodities Canada Corporation | Order granting long-term authority to export LNG to Canada.

[FR Doc. 2013-08358 Filed 4-9-13; 8:45 am]

BILLING CODE 6450-01-P